DEPARTMENT OF AGRICULTURE

Commodity Credit Corporation

7 CFR Part 1494

RIN 0551-AA75

Export Bonus Programs

AGENCY: Foreign Agricultural Service and Commodity Credit Corporation (CCC), USDA.

ACTION: Final rule.

SUMMARY: This final rule removes regulations for the Export Enhancement Program (EEP) and the Dairy Export Incentive Program (DEIP) from the Code of Federal Regulations, because the authorities for these programs were repealed by Section 3103 of the Food, Conservation, and Energy Act of 2008, Public Law 110-246, and Section 1423 of the Agricultural Act of 2014, Public Law 113-79, respectively.

DATES: This rule is effective January 14, 2015.

FOR FURTHER INFORMATION CONTACT: Amy Slusher, Deputy Director, Credit Programs Division, Foreign Agricultural Service, U.S. Department of Agriculture, 1400 Independence Ave. SW., Stop 1025, Room 5509, Washington, DC 20250-1025; telephone (202) 720-6211.

SUPPLEMENTARY INFORMATION:

Background

The Export Enhancement Program (EEP) was enacted through the Food, Agriculture, Conservation, and Trade Act of 1990 (Pub. L. 101-624). Under the EEP, CCC made available bonuses to enable U.S. exporters to meet prevailing world prices for targeted commodities in targeted destinations. The last year of operation of the EEP was 2001; since that time, U.S. agricultural products have been competitive in world markets and EEP bonuses have not been needed to facilitate sales.

The Dairy Export Incentive Program (DEIP) was enacted through the Food Security Act of 1985 (Pub. L. 99-198). Under the DEIP, CCC made available bonuses to enable U.S. exporters to meet prevailing world prices for certain dairy products in targeted destinations. The last year of operation of the DEIP was 2010; since that time, bonuses have not been needed to facilitate sales.

The primary objective of the EEP and DEIP was to encourage the commercial sale of United States agricultural commodities in world markets at competitive prices. Both programs were subject to annual commodity-specific quantity and budgetary ceilings agreed to by the United States in the World Trade Organization. Congress repealed the authority for the EEP in Section 3103 of the Food, Conservation, and Energy Act of 2008, and subsequently repealed the authority for the DEIP in Section 1423 of the Agricultural Act of 2014.

List of Subjects in 7 CFR Part 1494

Agricultural commodities, Exports, Dairy products.

Accordingly, under the authority of Sec. 3103, Public Law 110-246, and Sec. 1423, Public Law 113-79, and as discussed in the preamble, CCC amends 7 CFR chapter XIV by removing and reserving part 1494.

Dated: January 2, 2015.
Asif Chaudhry,
Acting Administrator, Foreign Agricultural Service, and Vice President, Commodity Credit Corporation.

[FR Doc. 2015-00504 Filed 1-13-15; 8:45 am]

BILLING CODE 3410-10-P